GENERAL SERVICES ADMINISTRATION

48 CFR Parts 504, 522, 552, and 570

[GSAR-TA-2020-01; Docket No. GSA-GSAR-2020-0010; Sequence No. 1]

General Services Administration Acquisition Regulation; Technical Amendments for URL Corrections

AGENCY: Office of Acquisition Policy, General Services Administration (GSA).

ACTION: Final rule.

SUMMARY: The General Services Administration (GSA) is issuing this final rule to amend the General Services Administration Acquisition Regulation (GSAR) to make needed technical amendments. These technical amendments are to update the General Services Administration Acquisition Regulation (GSAR) to correct several outdated website addresses (i.e. URL addresses) and, if applicable, make corresponding editorial changes.

DATES: Effective: July 27, 2020.

FOR FURTHER INFORMATION CONTACT: Mr. Thomas O'Linn, Procurement Analyst, at 202-445-0390 for clarification of content. For information pertaining to status or publication schedules, contact the Regulatory Secretariat Division at 202-501-4755. Please cite GSAR-TA-2020-01.

SUPPLEMENTARY INFORMATION: This final rule amends the General Services Administration Acquisition Regulation (GSAR) to make needed technical amendments. As part of GSA's regulatory reform efforts, GSA has been performing a comprehensive review of the requirements in the GSAR. GSA identified several instances where the website address (i.e., URL) needed to be updated. The update to these URLs in some cases require additional corresponding editorial changes as well.

URLs are being updated, along with corresponding editorial changes, if applicable, within the following GSAR sections: 504.604 Responsibilities; 504.1103 Procedures; 522.804-2 Construction; 522.805 Procedures; 570.106 Advertising, Publicizing, and Notifications to Congress; 570.106-1 Synopsis of Lease Awards; and 570.306 Evaluating Offers. URLs are also being updated, along with corresponding editorial changes, if applicable, within the following GSAR clauses: 552.204-9 Personal Identity Verification Requirements, 552.238-80 Industrial Funding Fee and Sales Reporting.

List of Subjects in 48 CFR Parts 504, 522, 552 and 570

Government procurement.

Jeffrey A. Koses,
Senior Procurement Executive, Office of Acquisition Policy, Office of Governmentwide Policy, General Services Administration.

Therefore, GSA amends 48 CFR parts 504, 522, 552, and 570 as set forth below:

1. The authority citation for 48 CFR parts 504, 522, 552, and 570 continues to read as follows:

Authority: 40 U.S.C. 121(c).

PART 504—ADMINISTRATIVE MATTERS

504.1103 [Amended]

2. Amend section 504.1103 in paragraph (a) by removing “Data Universal Number System (DUNS) number or DUNS+4 number” and adding “unique entity identifier” in its place and removing “The SAM information can be accessed through the SAM website (www.sam.gov) by creating a user account.”

PART 522—APPLICATION OF LABOR LAWS TO GOVERNMENT ACQUISITIONS

3. Revise section 522.804-2 to read as follows:

522.804-2 Construction.

Construction contractors and subcontractors are required to set trade participation goals for minorities and women based on percentages established by the Director, Office of Federal Contract Compliance Programs (OFCCP), Department of Labor. The goals can be found on OFCCP's website at https://www.dol.gov/agencies/ofccp/construction.

4. Amend section 522.805 by revising paragraphs (b) and (c) to read as follows:

522.805 Procedures.

* * * * *

(b) Contracting officers shall submit preaward clearance requests directly to the appropriate OFCCP regional office. A list of OFCCP regional offices can be found on OFCCP's website at https://ofccp.dol-esa.gov/preaward/pa_reg.html.

(c) The EEO poster required by FAR 22.805(b) can be found at: https://www.dol.gov/agencies/ofccp/posters.

PART 552—SOLICITATION PROVISIONS AND CONTRACT CLAUSES

5. Amend section 552.204-9 by revising the date of the clause and paragraph (a) to read as follows:

552.204-9 Personal Identity Verification requirements.

* * * * *

Personal Identity Verification Requirements (JUL 2020)

(a) The Contractor shall comply with GSA personal identity verification requirements, available at https://www.gsa.gov/hspd12, if Contractor employees require access to GSA controlled facilities or information systems to perform contract requirements.

* * * * *

6. Amend section 552.238-80 by revising the date of the clause and removing from paragraph (b)(2) “https://72a.gsa.gov/” and adding “https://srp.fas.gsa.gov/” in its place.

The revision reads as follows:

552.238-80 Industrial Funding Fee and Sales Reporting.

* * * * *

Industrial Funding Fee and Sales Reporting (JUL 2020)

* * * * *

PART 570—ACQUIRING LEASEHOLD INTERESTS IN REAL PROPERTY

570.106 [Amended]

7. Amend section 570.106 by—

a. Removing from paragraph (a) “http://www.FBO.gov” and adding “the Governmentwide Point of Entry (GPE) at https://beta.sam.gov or successor system” in its place; and

b. Removing from paragraphs (b), (c), (d), and (f) “http://www.FBO.gov” and adding in its place “the GPE”.

570.106-1 [Amended]

8. Amend section 570.106-1 by—

a. Removing from paragraph (a) “section” and adding in its place “subsection” and removing “http://www.FBO.gov” and adding in its place and “the GPE”; and

b. Removing from paragraphs (b)(2)(ii) and (c) “http://www.FBO.gov” and adding its place “the GPE”.

570.306 [Amended]

9. Amend section 570.306 in paragraph (c)(4) by removing “Past Performance Information Retrieval System (PPIRS) at http://www.ppirs.gov” and adding “Contractor Performance Assessment Reporting System at https://www.cpars.gov/, or successor system” in its place.

[FR Doc. 2020-12355 Filed 6-25-20; 8:45 am]

BILLING CODE 6820-61-P